DEPARTMENT OF JUSTICE

Notice of Lodging of Proposed Consent Decree and Settlement Agreement Under the Comprehensive Environmental Response, Compensation, and Liability Act and Chapter 11 of The United States Bankruptcy Code

On September 15, 2017, the Department of Justice lodged a proposed consent decree with the United States District Court for the District of New Jersey in the lawsuit entitled United States v. Alsol Corporation, SB Building Associates, LP, SB Building GP, LLC, United States Land Resources, L.P., United States Realty Resources, Inc., Lawrence S. Berger, and 3.60 Acres of Land, More or Less, located at Block 58, Lot 1.01, at 2 through 130 Ford Avenue in Milltown, Middlesex County, New Jersey, Civil Action Number 2:13-cv-00380. This consent decree incorporates terms of a proposed settlement agreement lodged on May 15, 2017, with the United States Bankruptcy Court for the District of New Jersey in three jointly administered Chapter 11 bankruptcy cases, In re S B Building Associates Limited Partnership, Case No. 13-12682-VFP, In re SB Milltown Industrial Realty Holdings, LLC, Case No. 13-12685-VFP and In re Alsol Corporation, Case No. 13-12689-VFP. The proposed settlement agreement is incorporated into the proposed consent decree and is attached thereto.

The proposed consent decree and proposed settlement agreement would resolve claims of the United States brought against the Defendants in the district court case under Section 107 of the Comprehensive Environmental Response, Compensation, and Liability Act, 42 U.S.C. 9607 (“CERCLA”), seeking reimbursement of response costs incurred or to be incurred for response actions taken at or in connection with the release or threatened release of hazardous substances at the Michelin Powerhouse Site and the Michelin Building 3 Vat Site located within Tax Map Block 58, Lot 1.01, in the Borough of Milltown, Middlesex County, New Jersey. Under the terms of the proposed consent decree and proposed settlement agreement, Defendants SB Building GP, LLC, United States Land Resources, L.P., United States Realty Resources, Inc., and Lawrence S. Berger have agreed, as provided by and subject to the terms and conditions of the Consent Decree and attached Settlement Agreement, that they are liable for the payment of $2,450,000 plus interest and certain costs in settlement of the claims alleged in the complaint filed in the district court case. Of this amount, $2,429,000, or 99.1428%, will be deposited into the Hazardous Substance Superfund established by the Internal Revenue Code, 26 U.S.C. 9507, and $21,000, or 0.8571%, will be deposited into the Oil Spill Liability Trust Fund established by the Internal Revenue Code, 26 U.S.C. 9509.

The proposed settlement agreement in the bankruptcy case would resolve the bankruptcy claims of the United States against two of the Defendants in the district court case, Alsol Corporation and S B Building Associates, LP., which are claims based on the CERCLA claims brought against these Defendants in the district court case. The proposed settlement agreement would also resolve the liability of Defendants SB Building GP, LLC, United States Land Resources, L.P., United States Realty Resources, Inc., and Lawrence S. Berger for payment of the judgment entered in United States v. Alsol Corp., et al., No. 2:09-cv-03026 (D.N.J.), an access case under Section 104(e) of CERCLA, 42 U.S.C. 9604(e). The proposed settlement agreement would become effective upon the date of entry of a final and non-appealable order confirming a Plan of Reorganization that incorporates the terms of the settlement agreement.

The publication of this notice opens a period for public comment on the proposed consent decree and proposed settlement agreement. Comments should be addressed to the Assistant Attorney General, Environment and Natural Resources Division, and should refer to United States v. Alsol Corporation, et al., Civil Action Number 2:13-cv-00380, D.J. Ref. No. 90-11-3-09697/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree and proposed settlement agreement may be examined and downloaded at this Justice Department Web site: https://www.justice.gov/enrd/consent-decrees. We will provide a paper copy of these documents upon written request and payment of reproduction costs. Please mail your request and payment to: Consent Decree Library, U.S. DOJ—ENRD, P.O. Box 7611, Washington, DC 20044-7611.

Please enclose a check or money order for $7.75 (25 cents per page reproduction cost) payable to the United States Treasury.

Robert E. Maher, Jr.,
Assistant Section Chief, Environmental Enforcement Section, Environment and Natural Resources Division.

[FR Doc. 2017-20097 Filed 9-20-17; 8:45 am]

BILLING CODE 4410-15-P